DEPARTMENT OF HEALTH AND HUMAN SERVICES

National Institutes of Health

National Institute of Neurological Disorders and Stroke; Amended Notice of Meeting

Notice is hereby given of a change in the meeting of the National Institute of Neurological Disorders and Stroke Special Emphasis Panel, which was published in the Federal Register on March 22, 2023, FR Doc. 2023-05787, 88 FR 17240.

This notice is being amended to change the dates of this two-day meeting from April 20-21, 2023, to May 11-12, 2023. The meeting is closed to the public.

Dated: April 19, 2023.
Tyeshia M. Roberson-Curtis,
Program Analyst, Office of Federal Advisory Committee Policy.

[FR Doc. 2023-08632 Filed 4-24-23; 8:45 am]

BILLING CODE 4140-01-P